DEPARTMENT OF JUSTICE

Office of Justice Programs

Agency Information Collection Activities: Proposed Collection; Comment Request

ACTION: Extension of Existing Collection: Summary of Sentenced Population Movement Annual Data Collection National Prisoner Statistics.

Office of Management and Budget approval is being sought for the information collection listed below. This proposed collection was previously published in the Federal Register on October 19, 2000, Vol. 65, page 62751, allowing for a 60-day public comment period.

The purpose of this notice is to allow an additional 30 days for public comments. Comments are encouraged and will be accepted for “thirty days” until February 16, 2001. This process is conducted in accordance with 5 CFR 1320.10.

Written comments and suggestions from the public and affected agencies concerning the proposed collection of information should address one or more of the following four points;

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Overview of this Information Collection

(1) Type of Information Collection: Revision of a currently approved collection.

(2) Title of the Form/Collection: Summary of Sentenced Population Movement—National Prisoner Statistics.

(3) Agency form number, if any, and the applicable component of the Department of Justice sponsoring the collection: NPS-1. Bureau of Justice Statistics.

(4) Affected public who will be asked or required to respond, as well as a brief abstract: Federal, State, and Local or Tribal Government. The National Prisoner Statistics—1 form is the only national source of information on the number of persons under jurisdiction or in custody at midyear and yearend; the number and type of admissions and releases; the number of inmate deaths by cause; counts by sex, race and Hispanic origin; number of inmates with HIV/AIDS, and prison capacity and jail backups due to crowding.

(5) An estimate of the total number of respondents and the amount of time estimated for an average respondent to respond: the estimated total number of respondents is 52.

(6) An estimate of the total public burden (in hours) associated with the collection: The estimated total number of annual burden hours for this collection is 338.

If you have additional comments, suggestions, or need a copy of the proposed information collection instrument with instruction, or additional information, please contact Ms. Brenda E. Dyer, Deputy Clearance Officer, United States Department of Justice, Information Management and Security Staff, Justice Management Division, Suite 1220, 1331 Pennsylvania Ave. NW, National Place Building, Washington, DC 20530.

Dated: January 10, 2001.
Brenda E. Dyer,
Department Deputy Clearance Officer, United States Department of Justice.

[FR Doc. 01-1309 Filed 1-16-01; 8:45 am]

BILLING CODE 4410-18-M